DEPARTMENT OF COMMERCE

International Trade Administration

[A-122-845; A-122-847; C-122-846; C-122-848]

Notice of Postponement of Final Antidumping Determinations and Extension of Provisional Measures and Postponement of Final Countervailing Duty Determinations: Certain Durum Wheat and Hard Red Spring Wheat from Canada

AGENCY: Import Administration, International Trade Administration, Department of Commerce.

EFFECTIVE DATE: June 13, 2003.

FOR FURTHER INFORMATION CONTACT: Julie Santoboni (AD) or Geoffrey Craig (CVD), Import Administration, International Trade Administration, U.S. Department of Commerce, 14th Street and Constitution Avenue, NW, Washington, DC 20230; telephone: (202) 482-4194 and (202) 482-5256, respectively.

Postponement of Final Determinations and Extension of Provisional Measures

On May 1, 2003, the Department of Commerce (“the Department”) issued its affirmative preliminary determinations in the antidumping duty investigations of certain durum wheat and hard red spring wheat from Canada (see Notice of Preliminary Determinations of Sales at Less Than Fair Value: Certain Durum Wheat and Hard Red Spring Wheat from Canada, 68 FR 24707 (May 8, 2003)). This notice stated we would issue our final determinations in these investigations within 75 days of the date of these preliminary determinations.

On May 16, 2003, in accordance with section 735(a)(2)(A) of the Tariff Act of 1930, as amended (“the Act”) and 19 CFR 351.210(b)(2)(ii), the sole respondent in these investigations, the Canadian Wheat Board (“CWB”), requested a 37-day postponement of the final determinations in the antidumping duty investigations of durum wheat and hard red spring wheat from Canada. The CWB also requested that the Department extend provisional measures from four months for an additional 37 days, in accordance with section 733(d) of the Act and 19 CFR 351.210(e)(2). Furthermore, the CWB reserved the right to request an additional extension of the final determinations for up to the full 60 days, or 135 days after the publication date of the preliminary determinations, under section 735(a)(2) of the Act. Because the preliminary determinations for Canada were affirmative, the CWB's request serves as an adequate basis upon which the Department may extend the final determinations.

As no compelling reason exists for denying the request for postponement, we are extending these final determinations to not later than 112 days after the date of publication of the preliminary determinations (i.e., not later than August 28, 2003). Suspension of liquidation will be extended accordingly.

Further, because the final determinations in the countervailing duty investigations of durum wheat and hard red spring wheat from Canada have been aligned with the final determinations in the antidumping duty investigations of durum wheat and hard red spring wheat from Canada (see Preliminary Affirmative Countervailing Duty Determinations and Alignment of Final Countervailing Duty Determinations With Final Antidumping Duty Determinations: Certain Durum Wheat and Hard Red Spring Wheat from Canada, 68 FR 11374 (March 10, 2003)), we are postponing the final determinations in the countervailing duty investigations until August 28, 2003, accordingly.

This notice of postponement is published pursuant to section 735(a) of the Act and 19 CFR 351.210(g).

Dated: May 29, 2003.
Joseph A. Spetrini,
Acting Assistant Secretary for Import Administration.

[FR Doc. 03-14981 Filed 6-12-03; 8:45 am]

BILLING CODE 3510-DS-S